DEPARTMENT OF TRANSPORTATION

Surface Transportation Board

[STB Finance Docket No. 34694 (Sub-No. 1)]

Union Pacific Railroad Company—Temporary Trackage Rights Exemption—BNSF Railway Company

AGENCY: Surface Transportation Board.

ACTION: Partial revocation of exemption.

SUMMARY: The Board, under 49 U.S.C. 10502, revokes the class exemption as it pertains to the trackage rights described in STB Finance Docket No. 34694 ¹ to permit the trackage rights to expire on or about December 31, 2005, in accordance with the agreement of the parties, subject to the employee protective conditions set forth in Oregon Short Line R. Co.—Abandonment—Goshen, 360 I.C.C. 91 (1979).

¹ On April 26, 2005, UP concurrently filed a verified notice of exemption under the Board's class exemption procedures at 49 CFR 1180.2(d)(7). The notice, served and published in the Federal Register on May 16, 2005 (70 FR 25883), covered the agreement by BNSF Railway Company (BNSF) to grant temporary local trackage rights to UP over a BNSF line of railroad between BNSF milepost 11.3 in UP Junction, WA, and BNSF milepost 36.0 near Sprague, WA, a distance of approximately 24.7 miles. Because the temporary trackage rights are “local” rather than “overhead” rights, they did not qualify for the Board's class exemption for temporary trackage rights at 49 CFR 1180.2(d)(8). The trackage rights operations under the exemption were scheduled to begin on May 3, 2005.

DATES: This exemption is effective on October 22, 2005. Petitions to stay must be filed by October 3, 2005. Petitions to reopen must be filed by October 12, 2005.

ADDRESSES: An original and 10 copies of all pleadings, referring to STB Finance Docket No. 34694 (Sub-No. 1) must be filed with the Surface Transportation Board, 1925 K Street, NW., Washington, DC 20423-0001. In addition, one copy of each pleading must be served on T. Christopher Lewis, 1400 Douglas Street, STOP 1580, Omaha, NE 68179.

FOR FURTHER INFORMATION CONTACT: Eric Davis (202) 565-1608. [Assistance for the hearing impaired is available through Federal Information Relay Service (FIRS) at 1-800-877-8339.]

SUPPLEMENTARY INFORMATION: Additional information is contained in the Board's decision. To purchase a copy of the full decision, write to, e-mail or call: ASAP Document Solutions, 9332 Annapolis Rd., Suite 103, Lanham, MD 20706; e-mail asapdc@verizon.net; telephone (202) 306-4004. [Assistance for the hearing impaired is available through FIRS at 1-800-877-8339.]

Board decisions and notices are available on our Web site at http://www.stb.dot.gov.

Decided: September 15, 2005.
By the Board, Chairman Nober, Vice Chairman Buttrey, and Commissioner Mulvey.
Vernon A. Williams,
Secretary.

[FR Doc. 05-18841 Filed 9-21-05; 8:45 am]

BILLING CODE 4915-01-P